DEPARTMENT OF HEALTH AND HUMAN SERVICES

Substance Abuse and Mental Health Services Administration

CARA Act's Required Training of Nurse Practitioners and Physician Assistants

AGENCY: Substance Abuse and Mental Health Services Administration, United States Department of Health and Human Services (HHS).

ACTION: Notice of public meeting.

SUMMARY: The Substance Abuse and Mental Health Services Administration (SAMHSA) announces that it will hold a public meeting on October 1, 2016, to discuss the training requirements for nurse practitioners (NPs) and physician assistants (PAs) that have been stipulated in the Comprehensive Addiction and Recovery Act (CARA). The session will be held in Newark, NJ.

DATES: The meeting will be held on October 1, 2016, from 9:00 to 11:00 a.m.

ADDRESSES:

In Person: The meeting will be held at the Newark Liberty International Airport Marriott, 1 Hotel Rd. Newark, NJ 07114.

By Phone: Phone Number: 888-942-9687; Passcode: 5093420.

By Internet: URL: https://www.mymeetings.com/emeet/rsvp/index.jsp?customHeader=mymeetings&Conference_ID=1063134&passcode=5093420; Conference number: 1063134; Passcode: 5093420.

SAMHSA will post additional logistical information on how to participate in person, by phone, or on the web at: http://caralisteningsession.eventbrite.com in advance of the listening session.

FOR FURTHER INFORMATION CONTACT: For additional information concerning the meeting, please contact: Dr. Mitra Ahadpour, Director, Division of Pharmacological Therapies, Center for Substance Abuse Treatment, SAMHSA, (240) 276-2134 or mitra.ahadpour@samhsa.hhs.gov.

Background

On July 22, 2016 CARA was signed into law by President Obama. The new law authorizes prescribing privileges of covered medications in office-based settings by NPs and PAs for five years (until October 1, 2021). At this meeting, SAMHSA will be seeking input on how to best implement the requirements that all NPs and PAs must have twenty-four hours of training before obtaining a waiver to prescribe covered medications. The meeting will include the organizations listed in statute and is also open to the public. Specifically, SAMHSA is seeking input on existing training programs that may meet the statutory requirements for training and within the twenty-four hours of training, the number of hours that NPs and PAs would have to complete on each topic listed in the CARA Act.

The agenda will include:

—Welcome and introductions

—Review of CARA Training Requirements

—Discussion about Training Requirements

Summer King,
Statistician.

[FR Doc. 2016-22130 Filed 9-14-16; 8:45 am]

BILLING CODE 4162-20-P